DEPARTMENT OF ENERGY

Federal Energy Regulatory Commission

[Docket No. CP18-6-000]

RH energytrans, LLC; Notice of Availability of the Environmental Assessment for the Proposed Risberg Line Project

The staff of the Federal Energy Regulatory Commission (FERC or Commission) has prepared an environmental assessment (EA) for the Risberg Line Project proposed by RH energytrans, LLC (RH) in the above-referenced docket. RH requests authorization to construct, modify, own, operate, and maintain natural gas facilities in Pennsylvania and Ohio to provide 55,000 dekatherms per day of firm natural gas transportation service.

The EA assesses the potential environmental effects of the construction and operation of the Risberg Line Project in accordance with the requirements of the National Environmental Policy Act (NEPA). The FERC staff concludes that approval of the proposed project, with appropriate mitigating measures, would not constitute a major federal action significantly affecting the quality of the natural and human environment.

The U.S. Army Corps of Engineers and the Pennsylvania Fish and Boat Commission participated as cooperating agencies in the preparation of the EA. Cooperating agencies have jurisdiction by law or special expertise with respect to resources potentially affected by the proposal and participate in the NEPA analysis. The U.S. Army Corps of Engineers will adopt the EA to fulfill their agency's NEPA obligations and will use the EA and supporting documentation to consider the issuance of Clean Water Act Section 404 and Rivers and Harbors Act Section 10 permits.

The Risberg Line Project would consist of the following actions in Pennsylvania:

• Minor modification at the existing County Line Compressor Station in Erie County;

• installation of compression (approximately 728 horsepower, natural gas-fired), receipt metering, and appurtenant facilities at the existing (currently vacant) Meadville Compressor Station site in Crawford County;

• re-certification and use of an existing 12-inch-diameter pipeline extending 26.6 miles from the Meadville Compressor Station north to an existing valve set in Washington Township, Erie County, including construction of a new launcher/receiver;

• next to the Meadville Compressor Station, construction of a 650-foot lateral within the existing 12-inch-diameter pipeline right-of-way to move gas from the Tennessee Gas Pipeline Company, LLC system to the existing pipeline; and

• re-certification and use of a portion of an existing 8-inch-diameter pipeline extending from the 12-inch valve set west about 5.0 miles to a point in Elk Creek Township, Erie County (Line 10257), including construction of two new launchers/receivers.

In Pennsylvania and Ohio, the project would include:

• Construction of 28.3 miles of new 12-inch-diameter pipeline from the west end of the recertified 8-inch-diameter pipeline to connect with Dominion Energy Ohio facilities located in North Kingsville, Ashtabula County, Ohio (Risberg Pipeline). The pipeline would be constructed in new rights-of-way and include launcher/receiver facilities and mainline valves; and

• construction of a new meter station at the terminus of the new pipeline in North Kingsville, Ashtabula County, Ohio.

The FERC staff mailed copies of the EA to federal, state, and local government representatives and agencies; elected officials; environmental and public interest groups; Native American tribes; potentially affected landowners and other interested individuals and groups; and newspapers and libraries in the project area. In addition, the EA is available for public viewing on the FERC's website (www.ferc.gov) using the eLibrary link. A limited number of copies of the EA are available for distribution and public inspection at: Federal Energy Regulatory Commission, Public Reference Room, 888 First Street NE, Room 2A, Washington, DC 20426, (202) 502-8371.

Any person wishing to comment on the EA may do so. Your comments should focus on the potential environmental effects, reasonable alternatives, and measures to avoid or lessen environmental impacts. The more specific your comments, the more useful they will be. To ensure that the Commission has the opportunity to consider your comments prior to making its decision on this project, it is important that we receive your comments in Washington, DC on or before 5:00pm Eastern Time on July 30, 2018.

For your convenience, there are three methods you can use to file your comments to the Commission. In all instances, please reference the project docket number (CP18-6-000) with your submission. The Commission encourages electronic filing of comments and has staff available to assist you at (866) 208-3676 or FercOnlineSupport@ferc.gov.

(1) You can file your comments electronically using the eComment feature on the Commission's website (www.ferc.gov) under the link to Documents and Filings. Using eComment is an easy method for submitting brief, text-only comments on a project;

(2) You can also file your comments electronically using the eFiling feature on the Commission's website (www.ferc.gov) under the link to Documents and Filings. With eFiling, you can provide comments in a variety of formats by attaching them as a file with your submission. New eFiling users must first create an account by clicking on “eRegister.” You must select the type of filing you are making. A comment on a particular project is considered a “Comment on a Filing”; or

(3) You can file a paper copy of your comments by mailing them to the following address: Kimberly D. Bose, Secretary, Federal Energy Regulatory Commission, 888 First Street NE, Room 1A, Washington, DC 20426.

Any person seeking to become a party to the proceeding must file a motion to intervene pursuant to Rule 214 of the Commission's Rules of Practice and Procedures (18 CFR 385.214). Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Additional information about the project is available from the Commission's Office of External Affairs, at (866) 208-FERC, or on the FERC website (www.ferc.gov) using the eLibrary link. Click on the eLibrary link, click on “General Search,” and enter the docket number in the “Docket Number” field, excluding the last three digits (i.e., CP18-6). Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: June 29, 2018.
Kimberly D. Bose,
Secretary.

[FR Doc. 2018-14556 Filed 7-6-18; 8:45 am]

BILLING CODE 6717-01-P